DEPARTMENT OF ENERGY

Federal Energy Regulatory Commission

[Docket No. EC03-30-000, et al.]

Illinois Power Company, et al.; Electric Rate and Corporate Filings

December 20, 2002.

The following filings have been made with the Commission. The filings are listed in ascending order within each docket classification.

1. Illinois Power Company, Illinois Electric Transmission Company, LLC Trans-Elect, Inc.

[Docket Nos. EC03-30-000 and ER03-284-000]

Take notice that on December 16, 2002, Illinois Power Company (Illinois Power), and Illinois Electric Transmission Company, LLC (IETC), Illinois Transco-Holdings, LP (ITH) and Trans-Elect, Inc. (Trans-Elect) (collectively Trans-Elect Applicants), (collectively, Applicants), submitted a joint application (Application) seeking an order of the Commission under the Federal Power Act authorizing (1) the reclassification of certain transmission and distribution assets of Illinois Power; (2) the sale and transfer by Illinois Power to IETC of all of Illinois Power's right, title, and interest in its jurisdictional transmission facilities and related assets (Purchased Assets); (3) the rate treatments, rates and terms and conditions of service as set forth in the Application for the provision of open access transmission service over the Purchased Assets through a regional transmission organization; (4) the continuation, without change in rates, terms or conditions, of wholesale distribution service by Illinois Power over its distribution system in conjunction with open access transmission service over the Purchased Assets; and (5) acceptance and/or approval of a rate schedule for wholesale distribution service and the various agreements to be entered into by the parties prior to or at the time of closing as specified in the Application.

The Trans-Elect Applicants state that copies have been served on all affected state commissions and customers taking service under Illinois Power's open access transmission tariff.

Comment Date: January 6, 2003.

2. Georgia Power Company

[Docket No. EC03-31-000]

Take notice that on December 17, 2002, Georgia Power Company filed with the Federal Energy Regulatory Commission (Commission) an application pursuant to section 203 of the Federal Power Act requesting all necessary authorizations for the transfer and exchange of certain transmission facilities from Georgia Power Company to the City of Dalton, Georgia and certain transmission facilities from the City of Dalton, Georgia to Georgia Power Company.

Comment Date: January 7, 2003.

3. Calpine Energy Services, L.P., Calpine California Equipment Finance Company, LLC

[Docket No. EC03-32-000]

Take notice that on December 17, 2002, Calpine Energy Services, L.P. (CES) and Calpine California Equipment Finance Company, LLC (CCEFC) tendered for filing an application under section 203 of the Federal Power Act for approval of the assignment by CES to CCEFC of a wholesale power sales agreement between CES and the California Department of Water Resources.

Comment Date: January 7, 2003.

4. Elk Hills Power, LLC

[Docket No. EG03-31-000]

Take notice that on December 17, 2002 , Elk Hills Power, LLC, 101 Ash Street, San Diego, California 92101 filed with the Federal Energy Regulatory Commission (Commission) an application for determination of exempt wholesale generator status pursuant to part 365 of the Commission's Regulations.

Comment Date: January 10, 2003.

5. Midwest Independent Transmission System Operator, Inc.

[Docket No. EL03-34-000]

Take notice that on December 17, 2002, the Midwest Independent Transmission System Operator, Inc. (Midwest ISO) filed with the Federal Energy Regulatory Commission (Commission) a Petition for Declaratory Order seeking Commission confirmation that the Midwest ISO stakeholders that fund the costs incurred in starting up Midwest ISO market operations should be entitled to reasonable recovery of such funds.

Comment Date: January 16, 2003.

6. Midwest Independent Transmission System Operator, Inc.

[Docket No. EL03-35-000]

Take notice that on December 17, 2002, the Midwest Independent Transmission System Operator, Inc. (Midwest ISO) filed with the Federal Energy Regulatory Commission (Commission) a Petition for Declaratory Order seeking approval of the general approach represented in the market rules appended thereto.

Comment Date: January 10, 2003.

7. D. E. Shaw Plasma Power, L.L.C.

[Docket No. EL03-36-000]

Take notice that on December 18, 2002, D. E. Shaw Plasma Power, L.L.C. tendered for filing with the Federal Energy Regulatory Commission (Commission) a Petition for A Declaratory Order Disclaiming Jurisdiction; Request for Waivers and Pre-Approvals; and Request for Expedition.

Comment Date: January 8, 2003.

8. AES Placerita, Inc.

[Docket Nos. ER00-33-003 and ER03-287-000]

Take notice that on November 22, 2002, AES Placerita, Inc. (Placerita) submitted its triennial market power update. In addition, pursuant to Section 205 of the Federal Power Act, Placerita submitted its second revision to FERC Electric Rate Schedule, Original Volume No. 1, and its first revision to its code of conduct reflecting new corporate affiliations.

Comment Date: December 30, 2002.

9. Wayne-White Counties Electric Cooperative

[Docket No. ER00-320-001]

Take notice that on December 17, 2002, Wayne-White Counties Electric Cooperative tendered for filing an updated market analysis and report of changes in status in compliance with the Commission's order, issued December 17, 1999, in Wayne-White Counties Electric Cooperative, 89 FERC 61,282 .

Comment Date: January 7, 2003.

10. Thompson River Co-Gen, LLC

[Docket No. ER02-298-002]

Take notice that on December 13, 2002, Thompson River Co-Gen, LLC (Thompson) amended its petition to the Commission for acceptance of Thompson Rate Schedule FERC No. 1; the granting of certain blanket approvals, including the authority to sell electricity at market-based rates, and waiver of certain Commission regulations.

Thompson intends to sell at wholesale electricity generated from a 16-megawatt cogeneration facility located in Thompson Falls, Montana, to NorthWestern Energy, LLC, (NWE). Thompson does not intend to make other wholesale sales of electricity to any entity other than NWE. Thompson is an LLC with passive ownership interests, and Barry Bates and Lawrence Underwood are the Partners and will manage Thompson's day-to-day business. Thompson has no legal or economic interest, and is not in any way related to, any utility or other entity that owns any generation, transmission or other jurisdictional facilities.

Comment Date: January 3, 2003.

11. Otter Tail Power Company

[Docket No. ER03-91-001]

Take notice that on December 16, 2002, pursuant to the December 6, 2002 Letter Order in the above-referenced proceeding, Otter Tail Power Company (Otter Tail) submitted for filing a version of the executed umbrella form of service agreement between Otter Tail and the Midwest Independent Transmission System Operator, Inc. that includes service agreement designations as required by Order No. 614.

Comment Date: January 6, 2003.

12. Entergy Services, Inc.

[Docket No. ER03-171-001]

Take notice that on December 13, 2002, Entergy Services, Inc., on behalf of Entergy Mississippi, Inc., (Entergy Mississippi), tendered for filing for informational purposes the Agreement for the Lease of Silver Creek Substation between Entergy Mississippi and South Mississippi Electric Association (SMEPA), dated July 1, 2002, as additional information in support of the Interconnection and Operating Agreement between Entergy Mississippi and SMEPA filed in this docket on November 7, 2002.

Comment Date: January 3, 2003.

13. Thompson River Co-Gen, LLC

[Docket No. ER03-270-000]

On December 17, 2002 the Commission issued a “Notice of Filing” in the above referenced docket. This notice is hereby rescinded.

14. Ameren Services Company

[Docket No. ER03-272-000]

Take notice that on December 13, 2002, Ameren Services Company (ASC) tendered for filing a Transmission System Interconnection Agreement and Parallel Operating Agreement between ASC and Ameren Energy Generating Company. ASC asserts that the purpose of the Agreement is to permit ASC to provide transmission service to Ameren Energy Generating Company pursuant to Ameren's Open Access Transmission Tariff.

Comment Date: January 3, 2003.

15. Ameren Services Company

[Docket No.ER03-273-000]

Take notice that on December 13, 2002, Ameren Services Company (ASC) tendered for filing a Transmission System Interconnection Agreement and Parallel Operating Agreement between ASC and Ameren Energy Generating Company. ASC asserts that the purpose of the Agreement is to permit ASC to provide transmission service to Ameren Energy Generating Company pursuant to Ameren's Open Access Transmission Tariff.

Comment Date: January 3, 2003.

16. Graham County Electric Cooperative, Inc.

[Docket No. ER03-274-000]

Take notice that on December 13, 2002, Graham Electric Cooperative, Inc. (GCEC), filed a firm power wheeling agreement with the City of Safford and Gila Resources, Inc., as well as a notice of cancellation that the firm power wheeling agreement supersedes an earlier firm power wheeling agreement (GCEC Rate Schedule FERC No. 1) between GCEC and the City of Safford.

GCEC states that copies of this filing were served upon the City of Safford, Gila Resources, Inc., and the Arizona Corporation Commission.

Comment Date: January 3, 2003.

17. Union Power Partners, L.P.

[Docket No. ER03-275-000]

Take notice that on December 13, 2002, Union Power Partners, L.P. tendered for filing with the Federal Energy Regulatory Commission (Commission) correspondence approving its membership to the Western Systems Power Pool (WSPP). Union Power Partners, L.P. requests that the Commission allow its membership in the WSPP to become effective on December 12, 2002.

Union Power Partners, L.P. states that a copy of this filing has been provided to the WSPP Executive Committee and to Michael E. Small, General Counsel to the Western Systems Power Pool.

Comment Date: January 3, 2003.

18. Panda Gila River, L.P.

[Docket No. ER03-276-000]

Take notice that on December 13, 2002, Panda Gila River, L. P. tendered for filing with the Federal Energy Regulatory Commission (Commission) correspondence approving its membership to the Western Systems Power Pool (WSPP). Panda Gila River, L. P. requests that the Commission allow its membership in the WSPP to become effective on December 11, 2002.

Panda Gila River, L. P. states that a copy of this filing has been provided to the WSPP Executive Committee and to Michael E. Small, General Counsel to the Western Systems Power Pool.

Comment Date: January 3, 2003.

19. Florida Power & Light Company

[Docket No. ER03-278-000]

Take notice that on December 16, 2002, Florida Power & Light Company (FPL) tendered for filing an executed Oleander Power Project Operation/Scheduling Agreement between FPL and Seminole Electric Cooperative, Inc. FPL requests that the agreement be made effective December 1, 2002, as mutually agreed by the parties.

Comment Date: January 6, 2003.

20. Bangor Hydro-Electric Company

[Docket No. ER03-279-000]

Take notice that on December 13, 2002, Bangor Hydro-Electric Company (Bangor Hydro) filed an executed service agreement for short-term firm point-to-point transmission service with Indeck Maine Energy, L.L.C.

Bangor Hydro requests a waiver of the Commission's 60-day notice requirement to permit the effective date agreed to by the parties. Bangor states that copies of this filing were served upon Indeck Maine Energy, L.L.C., the Maine Public Utilities Commission, and the Maine Public Advocate.

Comment Date: January 3, 2003.

21. Bangor Hydro-Electric Company

[Docket No. ER03-280-000]

Take notice that on December 13, 2002, Bangor Hydro-Electric Company (Bangor Hydro) filed an executed service agreement for long-term firm point-to-point transmission service with Indeck Maine Energy, L.L.C.

Bangor Hydro requests a waiver of the Commission's 60-day notice requirement to permit the effective date agreed to by the parties. Bangor Hydro states that copies of this filing were served upon Indeck Maine Energy, L.L.C., the Maine Public Utilities Commission, and the Maine Public Advocate.

Comment Date: January 3, 2003.

22. Connexus Energy

[Docket No. ER03-282-000]

Take notice that on December 16, 2002, Connexus Energy submitted for filing revised sheets to Connexus Energy's Electric Rate Schedule FERC No. 1. Connexus Energy states that the revised sheets effect minor rate changes under Connexus Energy's contract with Elk River Municipal Utilities. Connexus Energy requests waiver of the Commission's notice requirement to allow a January 1, 2003 effective date.

Comment Date: January 6, 2003.

23. American Transmission Company LLC

[Docket No. ER03-283-000]

Take notice that on December 13, 2002, the American Transmission Company LLC (ATCLLC) filed a Notice of Termination of the Generation-Transmission Interconnection Agreement between ATCLLC and Badger Generating Company LLC, Service Agreement No 180, filed in Docket No. ER01-2705-000.

Comment Date: January 3, 2003.

24. Tampa Electric Company

[Docket No. ER03-286-000]

Take notice that on December 16, 2002, Tampa Electric Company (Tampa Electric) tendered for filing notices of cancellation of the service agreements under its open access transmission tariff with the following customers: AIG Trading Corporation; Allegheny Energy Supply Company, LLC; Engage Energy US, L.P.; Exelon Generation Company, LLC; PECO Energy Company—Power Team; Utility Board of the City of Key West, Florida; Western Power Services, Inc.; and Williams Energy Services Company. Tampa Electric proposes that the cancellations be made effective on January 1, 2003.

Copies of the filing have been served on the affected customers and the Florida Public Service Commission.

Comment Date: January 6, 2003.

25. Arizona Public Service Company

[Docket No. ER03-288-000]

Take notice that on December 17, 2002, Arizona Public Service Company (APS) and Imperial Irrigation District (IID) filed a Notice of Cancellation in Rate Schedule No. 5.

APS states that this filing has been sent to IID and the Arizona Corporation Commission.

Comment Date: January 7, 2003.

26. Soyland Power Cooperative, Inc.

[Docket No. ER03-289-000]

Take notice that on December 17, 2002, Soyland Power Cooperative, Inc. (Soyland) tendered for filing with the Federal Energy Regulatory Commission (Commission) proposed non-rate changes to its formulary rate schedule, designated as Supplement No. 2 to its Rate Schedules.

Soyland requests an effective date of January 1, 2003 for the proposed change. Accordingly, Soyland requests waiver of the Commission's regulations regarding prior notice. Supplement No. 2 is the formulary rate under which Soyland recovers the costs associated with its service to its Members pursuant to the Wholesale Power Contract that Soyland has with each Member.

Comment Date: January 7, 2003.

27. Calpine California Equipment Finance Company, LLC

[Docket No. ER03-290-000]

Take notice that on December 17, 2002, Calpine California Equipment Finance Company, LLC tendered for filing, under section'205 of the Federal Power Act, a request for authorization to make wholesale sales of electric energy, capacity, replacement reserves, and ancillary services at market-based rates, to reassign transmission capacity, and to resell firm transmission rights.

Comment Date: January 7, 2003.

28. D. E. Shaw Plasma Power, L.L.C.

[Docket No. ER03-292-000]

Take notice that on December 18, 2002, D. E. Shaw Plasma Power, L.L.C. tendered for filing an application for authorization to sell energy, capacity, and ancillary services at market-based rates pursuant to section 205 of the Federal Power Act.

Comment Date: January 8, 2003.

29. North Branch Resources, LLC

[Docket No. ER03-293-000]

Take notice that on December 18, 2002, North Branch Resources, LLC (NBR) petitioned the Federal Energy Regulatory Commission (Commission) for acceptance of NBR Rate Schedule FERC No. 1; the granting of certain blanket approvals, including the authority to sell electricity at market-based rates; and the waiver of certain Commission regulations. NBR also filed a supplement to its application for market-based rates as power marketer on the same date.

Comment Date: January 8, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-32867 Filed 12-27-02; 8:45 am]

BILLING CODE 6717-01-P